Proclamation 10879 of December 31, 2024

National Stalking Awareness Month, 2025

By the President of the United States of America

A Proclamation

During National Stalking Awareness Month, we honor the courage and resilience of the millions of people in America who have suffered from stalking and recommit to ensuring every American feels safe and protected from this abuse. And we recommit to building a world where every person can walk through life knowing they are safe, secure, and will be treated with respect.

For the one in three women and one in six men who have endured stalking, the fear it causes can be all-consuming. No matter where it was committed or who it was committed by—at home, at work, online, or by a stranger or a neighbor—stalking can destroy a person's sense of security and safety. And it can have immense consequences on their lives: some have to leave everything behind to flee at a moment's notice or are haunted by their experience forever. It is wrong.

For too long, people refused to talk about stalking and other forms of gender-based violence, leaving survivors feeling alone, isolated, and forgotten. That changed with the passage of the landmark Violence Against Women Act more than 30 years ago—a law I was proud to write and champion as a United States Senator. It helped shine a harsh light on the scourge of gender-based violence in America and ensured that survivors were getting the support they needed. In 2022, I signed a reauthorization of the law, giving survivors of stalking more support and cracking down on perpetrators. It expanded the jurisdiction of Tribal courts to prosecute non-Native perpetrators of stalking and other gender-based violence, while ensuring survivors can bring a civil lawsuit in Federal court against someone who shared intimate images of them online without their consent.

My Administration has taken action to crack down on stalking and gender-based violence in America. We released our Nation's first-ever National Plan to End Gender-Based Violence, laying out a strategy to best support survivors, work on prevention, and ensure perpetrators are held accountable. The Department of Justice's Office on Violence Against Women has continued providing grants to community organizations, prosecutors, and law enforcement to stop stalking and other gender-based crimes. And to ensure victims have a safe place to call home and rebuild their lives, the Department of Housing and Urban Development has provided tens of thousands of emergency housing vouchers. Furthermore, I established the White House Task Force to Address Online Harassment and Abuse to make sure we are stopping gender-based violence committed online.

My father used to say that one of the greatest sins a person could commit is the abuse of power—and that is fundamentally what stalking is. During National Stalking Awareness Month, we recommit to supporting survivors of stalking and reaffirm that harassment, abuse, and violence have no place in America.

NOW, THEREFORE, I, JOSEPH R. BIDEN JR., President of the United States of America, by virtue of the authority vested in me by the Constitution and the laws of the United States, do hereby proclaim January 2025 as National Stalking Awareness Month. I call on all Americans to speak out against stalking and to support the efforts of advocates, courts, service providers, and law enforcement to help those who are targeted and send the message to perpetrators that these crimes will not go unpunished.

IN WITNESS WHEREOF, I have hereunto set my hand this thirty-first day of December, in the year of our Lord two thousand twenty-four, and of the Independence of the United States of America the two hundred and forty-ninth.

[FR Doc. 2025-00228

Filed 1-6-25; 8:45 am]

Billing code 3395-F4-P